DEPARTMENT OF LABOR

Occupational Safety And Health Administration

[Docket No. ACCSH 2007-1]

Advisory Committee on Construction Safety and Health (ACCSH); Request for Nominations

AGENCY: Occupational Safety and Health Administration (OSHA), U.S. Department of Labor.

ACTION: Request for nominations to serve on ACCSH.

SUMMARY: The Assistant Secretary of Labor for Occupational Safety and Health invites interested parties to submit nominations for membership on ACCSH.

DATES: Nominations for ACCSH must be submitted (postmarked, sent or received) by February 23, 2007.

ADDRESSES: You may submit nominations for ACCSH, identified by OSHA Docket No, ACCSH 2007-1, by any of the following methods:

Electronically: You may submit nominations electronically at http://www.regulations.gov, which is the Federal eRulemaking Portal. Follow the instructions on-line for submitting comments.

Facsimile: If your nomination, including attachments, is not longer than 10 pages, you may fax it to the OSHA Docket Office at (202) 693-1648.

Mail, express delivery, hand delivery, messenger or courier service: Submit three copies of your nominations to the OSHA Docket Office, Room N-2625, U.S. Department of Labor, 200 Constitution Ave., NW., Washington, DC 20210; telephone (202) 693-2350 (OSHA's TTY number is (877) 889-5627). Deliveries (hand, express mail, messenger and courier service) are accepted during the Department of Labor's and Docket Office's normal business hours, 8:15 a.m.-4:45 p.m., e.t.

Instructions: All nominations for ACCSH must include the Agency name and docket number for this Federal Register notice (Docket No. ACCSH 2007-1). All submissions in response to this Federal Register notice, including personal information provided, will be posted without change at http://www.regulations.gov. Because of security-related procedures, submitting nominations by regular mail may result in a significant delay in their receipt. Please contact the OSHA Docket Office (at the address above) for information about security procedures for submitting nominations by hand delivery, express delivery, and messenger or courier service. For additional information on submitting nominations, see the SUPPLEMENTARY INFORMATION section below.

Docket: To read or download submissions, go to http://www.regulations.gov. All documents in the docket are listed in the http://www.regulations.gov index. Although listed in the index, some information (e.g., copyrighted material) is not publicly available to read or download through http://www.regulations.gov. All submissions, including copyrighted material, are available for inspection and copying at the OSHA Docket Office at the address above.

FOR FURTHER INFORMATION CONTACT: Mr. Michael M.X. Buchet, OSHA, Directorate of Construction—Office of Construction Services, Room N-3468, U.S. Department of Labor, 200 Constitution Avenue, NW., Washington, DC 20210; telephone 202-693-2020; e-mail address buchet.michael@dol.gov.

SUPPLEMENTARY INFORMATION: The Assistant Secretary of Labor for Occupational Safety and Health invites interested parties to submit nominations for membership on ACCSH. ACCSH is authorized under the authority granted by section 7 of the Occupational Safety and Health Act of 1970 (29 U.S.C. 656), and section 107 of the Contract Work Hours and Safety Standards Act (Construction Safety Act) (40 U.S.C. 3701 et seq.). The function of ACCSH is to advise the Assistant Secretary on occupational safety and health standards and policy affecting the construction industry. ACCSH is a continuing advisory body and operates in compliance with the provisions of the Construction Safety Act, section 7 of the OSH Act, and the Federal Advisory Committee Act (5 U.S.C. App. 2), and regulations issued pursuant to those statutes (29 CFR part 1912, 41 CFR part 101-6 and 102-3). ACCSH meets two to four times per year for one or two days per meeting.

ACCSH is composed of 15 members appointed by the Assistant Secretary to serve staggered two-year terms. The composition of ACCSH and the number of new members to be appointed at this time are as follows:

• Five members who are qualified by experience and affiliation to present the viewpoint of employers in the construction industry. Three employer representatives will be appointed;

• Five members who are similarly qualified to present the viewpoint of employees in the construction industry. Two employee representatives will be appointed;

• Two representatives of State safety and health agencies. Two representatives will be appointed;

• Two representatives qualified by knowledge and experience to make a useful contribution to the work of ACCSH, such as those who have professional or technical experience and competence with occupational safety and health in the construction industry. One public representative will be appointed; and

• One representative designated by the Department of Health and Human Services, National Institute of Occupational Safety and Health (NIOSH).

As mentioned, ACCSH members serve for a period of two years, unless the member becomes unable to serve, resigns or ceases to be qualified to serve, or is removed by the Secretary [29 CFR 1912.3(e)]. The NIOSH representative does not have a fixed term length. Qualified ACCSH members whose terms have expired may continue to serve until a successor is appointed and may serve successive terms. Any member absent from two consecutive meetings may be removed or replaced.

The Department of Labor is committed to equal opportunity in the workplace and seeks broad-based and diverse ACCSH membership. Nominations for a specific category of ACCSH membership should come from groups or people within the category. Others are invited and encouraged to submit endorsements in support of particular nominees. Nominations must include the following information:

(1) Nominee's resume or curriculum vitae, including prior membership on ACCSH or other relevant organizations or associations;

(2) Categories of membership for which the nominee can serve;

(3) A summary of background, experience and qualifications that makes the nominee well-suited for each of those particular categories of membership;

(4) Articles or other documents the nominee has authored that indicate his or her knowledge, experience and expertise in occupational safety and health, particularly as it pertains to the construction industry;

(5) The nominee's contact information (address, phone, e-mail); and

(6) A written commitment from the nominee of his or her willingness to attend meetings regularly and participate in good faith, and attesting that the nominee has no apparent conflicts of interest that would preclude unbiased service on ACCSH.

In addition to other relevant sources of information, the information received through the nomination process will assist the Assistant Secretary in making appointments to ACCSH. In selecting ACCSH members, the Assistant Secretary will consider individuals nominated in response to this Federal Register notice, as well as other qualified individuals. OSHA will publish the new ACCSH membership list in the Federal Register.

Public Participation—Submission of Nominations and Access to Docket

You may submit nominations (1) electronically at http://www.regulations.gov, which is the Federal eRulemaking Portal; (2) by facsimile (FAX); or (3) by hard copy. All comments, attachments and other material must identify the Agency name and the OSHA docket number (OSHA Docket No. ACCSH 2007-1). You may supplement electronic nominations by uploading document files electronically. If, instead, you wish to mail additional materials in reference to an electronic or fax submission, you must submit three copies to the OSHA Docket Office (see ADDRESSES section). The additional materials must clearly identify your electronic nomination by name, date, and docket number so OSHA can attach them to your nomination.

Because of security-related procedures, the use of regular mail may cause a significant delay in the receipt of nominations. For information about security procedures concerning the delivery of materials by hand, express delivery, messenger or courier service, please contact the OSHA Docket Office at (202) 693-2350 (TTY (877) 889-5627).

Submissions are posted without change at http://www.regulations.gov. Therefore, OSHA cautions interested parties about submitting personal information such as social security numbers and date of birth. Although all submissions are listed in the http://www.regulations.gov index, some information (e.g., copyrighted material) is not publicly available to read or download through http://www.regulations.gov. All submissions, including copyrighted material, are available for inspection and copying at the OSHA Docket Office. Information on using the http://www.regulations.gov Web site to submit nominations and access the docket is available at the Web site's User Tips link. Contact the OSHA Docket Office for information about materials not available through the Web site and for assistance in using the internet to locate docket submissions.

Electronic copies of this Federal Register document are available at http://www.regulations.gov. This document, as well as news releases and other relevant information, also are available at OSHA's Web page at http://www.osha.gov.

Authority and Signature

Edwin G. Foulke, Jr., Assistant Secretary of Labor for Occupational Safety and Health, directed the preparation of this notice under the authority granted by section 7 of the Occupational Safety and Health Act of 1970 (29 U.S.C. 656), section 107 of the Contract Work Hours and Safety Standards Act (Construction Safety Act) (40 U.S.C. 3701 et seq.), and Secretary of Labor's Order No. 5-2002 (67 FR 65008).

Signed at Washington, DC this 19th day of January, 2007.
Edwin G. Foulke, Jr.,
Assistant Secretary of Labor.

[FR Doc. E7-1013 Filed 1-23-07; 8:45 am]

BILLING CODE 4510-26-P